DEPARTMENT OF TRANSPORTATION

Federal Aviation Administration

14 CFR Part 39

[Docket No. FAA-2005-20720; Directorate Identifier 2005-CE-17-AD]

RIN 2120-AA64

Airworthiness Directives; Pilatus Aircraft Ltd. Models PC-12 and PC-12/45 Airplanes

AGENCY: Federal Aviation Administration (FAA), DOT.

ACTION: Notice of proposed rulemaking (NPRM).

SUMMARY: The FAA proposes to adopt a new airworthiness directive (AD) for certain Pilatus Aircraft Ltd. (Pilatus) Models PC-12 and PC-12/45 airplanes. This proposed AD would require you to insert a temporary revision into the Limitations Section of the Pilot Operating Handbook (POH). This proposed AD would also require you to replace the pitch actuator with an improved design pitch actuator and make the necessary wiring and circuit breaker changes, as applicable. Installing the improved design pitch actuator terminates the need for the temporary revision in the POH. This proposed AD results from mandatory continuing airworthiness information (MCAI) issued by the airworthiness authority for Switzerland. We are issuing this proposed AD to prevent an out-of-trim condition from occurring when the flaps are at a 40-degree flight phase and the pilot disconnects the autopilot. This condition could lead to reduced ability to control the airplane.

DATES: We must receive any comments on this proposed AD by May 13, 2005.

ADDRESSES: Use one of the following to submit comments on this proposed AD:

• DOT Docket Web Site: Go to http://dms.dot.gov and follow the instructions for sending your comments electronically.

• Government-wide Rulemaking Web Site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact Pilatus Aircraft Ltd., Customer Liaison Manager, CH-6371 Stans, Switzerland; telephone: +41 41 619 6208; facsimile: +41 41 619 7311; e-mail: SupportPC12@pilatus-aircraft.com or from Pilatus Business Aircraft Ltd., Product Support Department, 11755 Airport Way, Broomfield, Colorado 80021; telephone: (303) 465-9099; facsimile: (303) 465-6040.

To view the comments to this proposed AD, go to http://dms.dot.gov. This is docket number FAA-2005-20720; Directorate Identifier 2005-CE-17-AD.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Comments Invited

How do I comment on this proposed AD? We invite you to submit any written relevant data, views, or arguments regarding this proposal. Send your comments to an address listed under ADDRESSES. Include the docket number, “FAA-2005-20720; Directorate Identifier 2005-CE-17-AD” at the beginning of your comments. We will post all comments we receive, without change, to http://dms.dot.gov, including any personal information you provide. We will also post a report summarizing each substantive verbal contact with FAA personnel concerning this proposed rulemaking. Using the search function of our docket Web site, anyone can find and read the comments received into any of our dockets, including the name of the individual who sent the comment (or signed the comment on behalf of an association, business, labor union, etc.). This is docket number FAA-2005-20720; Directorate Identifier 2005-CE-17-AD. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

What events have caused this proposed AD? The Federal Office for Civil Aviation (FOCA), which is the airworthiness authority for Switzerland, recently notified FAA that an unsafe condition may exist on certain Pilatus Models PC-12 and PC-12/45 airplanes. The FOCA reports that an abrupt nose down pitch condition occurred on a PC-12 airplane.

Investigation revealed that the pilot disconnected the autopilot when the flaps were at a 40-degree selection.

Pilatus has determined that the pitch actuator sense circuitry becomes over-active during a 40-degree flight phase. Therefore, Pilatus designed a new pitch actuator that modifies sense output signals and removes the flap in motion signal to the autopilot.

What is the potential impact if FAA took no action? This condition, if not corrected, could result in an out-of-trim condition when the flaps are at a 40-degree flight phase and the pilot disconnects the autopilot. This condition could lead to reduced ability to control the airplane.

Is there service information that applies to this subject? Pilatus has issued PC12 Service Bulletin No. 22-004, dated December 21, 2004; and Temporary Revision No. 11 (Report No. 02211) or No. 40 (Report No. 01973-001).

What are the provisions of this service information? The service bulletin includes procedures for:

—Replacing the pitch actuator, part number (P/N) 985.92.03.161, with an improved design pitch actuator, P/N 985.92.03.164; and

—Making the associated wiring and circuit breaker changes, as applicable.

What action did the FOCA take? The FOCA classified this service bulletin as mandatory and issued Swiss AD Number HB-2005-128, effective date March 29, 2005, to ensure the continued airworthiness of these airplanes in Switzerland.

Did the FOCA inform the United States under the bilateral airworthiness agreement? These Pilatus PC-12 and PC-12/45 airplanes are manufactured in Switzerland and are type-certificated for operation in the United States under the provisions of section 21.29 of the Federal Aviation Regulations (14 CFR 21.29) and the applicable bilateral airworthiness agreement.

Under this bilateral airworthiness agreement, the FOCA has kept us informed of the situation described above.

FAA's Determination and Requirements of This Proposed AD

What has FAA decided? We have examined the FOCA's findings, reviewed all available information, and determined that AD action is necessary for products of this type design that are certificated for operation in the United States.

Since the unsafe condition described previously is likely to exist or develop on Pilatus Models PC-12 and PC-12/45 airplanes of the same type design that are registered in the United States, we are proposing AD action to prevent an out-of-trim condition from occurring when the flaps are at a 40-degree flight phase and the pilot disconnects the autopilot. This condition could lead to reduced ability to control the airplane.

What would this proposed AD require? This proposed AD would require you to insert the applicable temporary revision into the Pilot Operating Handbook (POH) and incorporate the actions in the previously-referenced service bulletin. The POH revision is no longer necessary when the improved design pitch actuator referenced in the service information is installed.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 330 airplanes in the U.S. registry.

What would be the cost impact of this proposed AD on owners/operators of the affected airplanes? We estimate the following costs to incorporate the proposed Pilot Operating Handbook (POH) Temporary Revision:

Labor cost | Parts cost | Total cost per airplane | Total cost on U.S. operators
1 work hour × $65 per hour = $65 | Not applicable | $65 | $21,450

Pilatus will provide warranty credit for replacing the pitch actuator to the extent stated in the service information.

Authority for This Rulemaking

What authority does FAA have for issuing this rulemaking action? Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD (and other information as included in the Regulatory Evaluation) and placed it in the AD Docket. You may get a copy of this summary by sending a request to us at the address listed under ADDRESSES. Include “AD Docket FAA-2005-20720; Directorate Identifier 005-CE-17-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Pilatus Aircraft Ltd.: Docket No. FAA-2005-20720; Directorate Identifier 2005-CE-17-AD.

When Is the Last Date I Can Submit Comments on This Proposed AD?

(a) We must receive comments on this proposed airworthiness directive (AD) by May 13, 2005.

What Other ADs Are Affected by This Action?

(b) None.

What Airplanes Are Affected by This AD?

(c) This AD affects Models PC-12 and PC-12/45 airplanes, Manufacturers Serial Numbers (MSN) 101 through 620, that are certificated in any category.

What Is the Unsafe Condition Presented in This AD?

(d) This AD is the result of mandatory continuing airworthiness information (MCAI) issued by the airworthiness authority for Switzerland. The actions specified in this AD are intended to prevent an out-of-trim condition from occurring when the flaps are at a 40-degree flight phase and the pilot disconnects the autopilot. This condition could lead to reduced ability to control the airplane.

What Must I Do To Address This Problem?

(e) To address this problem, you must do the following:

Actions | Compliance | Procedures
(1) Insert Temporary Revision No. 11 (Report No. 02211) or No. 40 (Report No. 01973-001) into the Limitations Section of the PC-12 Pilot's Operating Handbook (POH) | Within the next 90 days after the effective date of this AD, unless already done | The owner/operator holding at least a private pilot certificate as authorized by section 43.7 of the Federal Aviation Regulations (14 CFR 43.7) may modify the POH as specified in paragraph (e)(1) of this AD. Make an entry into the aircraft records showing compliance with this the portion of the AD following section 43.9 of Federal Aviation Regulations (14 CFR 43.9).
(2) Replace the pitch actuator, part number (P/N) 985.92.03.161, with an improved design pitch actuator, P/N 985.92.03.164; and make the associated wiring and circuit breaker changes (as applicable) | Within the next 6 months after the effective date of this AD, unless already done | Follow Pilatus PC12 Service Bulletin No. 22-004, dated December 21, 2004.
(3) Remove the Temporary Revision to the POH specified in paragraph (e)(1) of this AD after the pitch actuator is replaced as required in paragraph (e)(2) of this AD | Before further flight after the pitch actuator is replaced with an improved design pitch actuator | The owner/operator holding at least a private pilot certificate as authorized by section 43.7 of the Federal Aviation Regulations (14 CFR 43.7) may modify the POH as specified in paragraph (e)(3) of of this AD. Make an entry into the aircraft records showing compliance with this portion of the AD following section 43.9 of the Federal Aviation Regulations (14 CFR 43.9).
(4) Do not install a P/N 985.92.03.161 pitch actuator | As of the effective date of this AD | Not applicable.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Doug Rudolph, Aerospace Engineer, FAA, Small Airplane Directorate, 901 Locust, Room 301, Kansas City, Missouri 64106; telephone: (816) 329-4059; facsimile: (816) 329-4090.

Is There Other Information That Relates to This Subject?

(g) Swiss AD Number HB-2005-128, effective date March 29, 2005, also addresses the subject of this AD.

May I Get Copies of the Documents Referenced in this AD?

(h) To get copies of the documents referenced in this AD, contact Pilatus Aircraft Ltd., Customer Liaison Manager, CH-6371 Stans, Switzerland; telephone: +41 41 619 6208; facsimile: +41 41 619 7311; e-mail: SupportPC12@pilatus-aircraft.com or from Pilatus Business Aircraft Ltd., Product Support Department, 11755 Airport Way, Broomfield, Colorado 80021; telephone: (303) 465-9099; facsimile: (303) 465-6040. To view the AD docket, go to the Docket Management Facility; U.S. Department of Transportation, 400 Seventh Street, SW., Nassif Building, Room PL-401, Washington, DC, or on the Internet at http://dms.dot.gov. This is docket number FAA-2005-20720; Directorate Identifier 2005-CE-17-AD.

Issued in Kansas City, Missouri, on April 6, 2005.
David R. Showers,
Acting Manager, Small Airplane Directorate, Aircraft Certification Service.

[FR Doc. 05-7382 Filed 4-12-05; 8:45 am]

BILLING CODE 4910-13-P